DEPARTMENT OF HOUSING AND URBAN DEVELOPMENT

[Docket No. FR-4512-N-04]

Notice of Regulatory Waiver Requests Granted

AGENCY: Office of the Secretary, HUD.

ACTION: Public Notice of the Granting of Regulatory Waivers from October 1, 1999 through December 31, 1999.

SUMMARY: Section 106 of the Department of Housing and Urban Development Reform Act of 1989 (the “HUD Reform Act”), requires HUD to publish quarterly Federal Register notices of all regulatory waivers it has approved. Each notice must cover the quarterly period since the most recent Federal Register notice. The purpose of this notice is to comply with the requirements of section 106 of the HUD Reform Act. This notice contains a list of regulatory waivers granted by HUD during the quarter beginning on October 1, 1999 and ending on December 31, 1999.

FOR FURTHER INFORMATION CONTACT: For general information about this notice, contact Camille E. Acevedo, Assistant General Counsel for Regulations, Room 10276, Department of Housing and Urban Development, 451 Seventh Street, SW, Washington, DC 20410; telephone (202) 708-3055 (this is not a toll-free number). Hearing or speech-impaired persons may access this number via TTY by calling the toll-free Federal Information Relay Service at 1-800-877-8391.

For information concerning a particular waiver action for which public notice is provided in this document, contact the person whose name and address is set out for the particular item, in the accompanying list of waiver-grant actions.

SUPPLEMENTARY INFORMATION: As part of the Housing and Urban Development Reform Act of 1989 (the “HUD Reform Act”), the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request;

e. State how additional information about a particular waiver grant action may be obtained.

Section 106 of the HUD Reform Act also contains requirements applicable to waivers of HUD handbook provisions that are not relevant to the purpose of this notice.

Today's document follows publication of HUD's Statement of Policy on Waiver of Regulations and Directives issued by HUD on April 22, 1991 (56 FR 16337). This notice covers HUD's waiver-grant activity from October 1, 1999 through December 31, 1999. Additionally, this notice contains several reports of regulatory waivers granted during September of 1999, but that were not included in HUD's Federal Register notice of waiver grant activity from July 1, 1999 to September 30, 1999.

For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement in title 24 that is being waived as part of the waiver-grant action. For example, a waiver of both § 58.73 and § 58.74 would appear sequentially in the listing under § 58.73.

Waiver-grant actions involving the same initial regulatory citation are in time sequence beginning with the earliest-dated waiver grant action.

Should HUD receive additional reports of waiver actions taken during the period covered by this report before the next report is published, the next updated report will include these earlier actions, as well as those that occurred between January 1, 2000 through March 30, 2000.

Accordingly, information about approved waiver requests pertaining to HUD regulations is provided in the Appendix that follows this notice.

Dated: March 13, 2000.
Andrew Cuomo,
Secretary.

Appendix

Listing of Waivers of Regulatory Requirements Granted by Officers of the Department of Housing and Urban Development October 1, 1999 through December 31, 1999

Note to Reader: More information about the granting of these waivers, including a copy of the waiver request and approval, may be obtained by contacting the person whose name is listed as the contact person directly before each set of waivers granted.

I. Regulatory Waivers Granted by the Office of Community Planning and Development

For Items 1 Through 3, Waivers Granted for 24 CFR Parts 50 and 1000, Contact: Bruce Knott, National Office of Native American Programs, U.S. Department of Housing and Urban Development, 1999 Broadway, Suite 3390, Denver, CO 80201; telephone (303) 675-1600 (this is not a toll-free number). Hearing or speech-impaired persons may access this number via TTY by calling the toll-free Federal Information Relay Service at 1-800-877-8391.

1. Regulation: 24 CFR 50.17 and 1000.20(a).

Project/Activity: White Mountain Apache Tribe; Apache Dawn Phase One project.

Nature of Requirement: HUD's regulation at 50.17 provides that the required environmental reviews must be completed before the decision points specified by the regulation. HUD's regulation at § 1000.20(a) provides that a HUD environmental review must be completed for Indian Housing Block Grant (IHBG) program activities not excluded from review under 24 CFR 50.19(b) before a recipient may commit HUD funds used in conjunction with IHBG program assisted activities.

Granted by: Cardell Cooper, Assistant Secretary for Community Planning and Development; Harold Lucas, Assistant Secretary for Public and Indian Housing.

Date Granted: November 30, 1999.

Reasons Waived: A request was made by the White Mountain Apache Tribe for HUD to perform the environmental review under 24 CFR part 50 for the Apache Dawn Phase One Project. The tribally designated housing entity (TDHE) made several errors during the 24 CFR part 58 environmental review and clearance process for the project (to be financed with Section 184/Ginnie Mae collateralized tax-exempt bonds), resulting in the TDHE obligating Section 184 Loan Guarantee proceeds and Indian Housing Block Grant (IHBG) funds prior to HUD approval of a Request for a Release of Funds and Certification. The Tribe and TDHE acted in good faith in trying to comply with HUD's environmental review and clearance process. No environmental degradation resulted from the regulatory noncompliance identified. The errors committed under 24 CFR part 58 would have delayed the bond closing resulting in the cancellation of the project.

2. Regulation: 24 CFR 50.17 and 1000.20(a).

Project/Activity: The Quileute Tribe and its housing authority were provided grant funds to develop 15 houses on the Indian reservation. Prior to the obligation of funds, the Tribe is required to complete an environmental assessment under 24 CFR part 58 or HUD is required to complete the environmental assessment under 24 CFR part 50. The Tribe elected to comply with the part 58 requirements. However, HUD discovered procedural errors during a post review of the environmental record.

Nature of Requirement: HUD's regulation at § 50.17 provides that the required environmental reviews must be completed before the decision points specified by the regulation. HUD's regulation at § 1000.20(a) provides that a HUD environmental review must be completed for Indian Housing Block Grant (IHBG) program activities not excluded from review under 24 CFR 50.19(b) before a recipient may commit HUD funds used in conjunction with IHBG program assisted activities.

Granted by: Cardell Cooper, Assistant Secretary for Community Planning and Development; Harold Lucas, Assistant Secretary for Public and Indian Housing.

Date Granted: December 6, 1999.

Reason Waived: Based on the information that was provided by the Tribe, the documentation that was received by HUD, and a determination by HUD that no environmental degradation resulted from the regulatory noncompliance, HUD believed that there was good cause to waive the requirements of §§ 1000.20(a) and 50.17.

3. Regulation: 24 CFR 50.17 and 1000.20(a).

Project/Activity: The Coeur D'Alene Tribe and its housing authority were provided grant funds to develop 5 houses on the Indian reservation. Prior to the obligation of funds, the Tribe is required to complete an environmental assessment under 24 CFR part 58 or HUD is required to complete the environmental assessment under 24 CFR part 50. The Tribe elected to comply with the part 58 requirements. However, HUD discovered procedural errors during a post review of the environmental record.

Nature of Requirement: HUD's regulation at § 50.17 provides that the required environmental reviews must be completed before the decision points specified by the regulation. HUD's regulation at § 1000.20(a) provides that a HUD environmental review must be completed for Indian Housing Block Grant (IHBG) program activities not excluded from review under 24 CFR 50.19(b) before a recipient may commit HUD funds used in conjunction with IHBG program assisted activities.

Granted by: Cardell Cooper, Assistant Secretary for Community Planning and Development; Mr. Harold Lucas, Assistant Secretary for Public and Indian Housing.

Date Granted: December 6, 1999.

Reason Waived: Based on the information that was submitted by the Tribe, the documentation that was received by HUD, and a determination by HUD that no environmental degradation resulted from the regulatory noncompliance, HUD believed that there was good cause to waive the requirements of §§ 1000.20(a) and 50.17.

For Items 4 Through 10, Waivers Granted for 24 CFR Parts 91, 92, 570 and 576 Contact: Cornelia Robertson-Terry, Office of Community Planning and Development, U.S. Department of Housing and Urban Development, 451 Seventh Street, SW, Room 7152, Washington, DC 20410; telephone (202) 708-2565 (this is not a toll-free number). Hearing or speech-impaired persons may access this number via TTY by calling the toll-free Federal Information Relay Service at 1-800-877-8391.

4. Regulation: 24 CFR 91.520(a).

Project/Activity: Harris County, Texas requested a waiver of the submission deadline for the County's 1998 program year CAPER.

Nature of Requirement: HUD's regulation at 24 CFR 91.520(a) requires each grant recipient to submit a performance report to HUD within 90 days after the close of the grantee's program year.

Granted by: Cardell Cooper, Assistant Secretary for Community Planning and Development.

Date Granted: October 19, 1999.

Reasons Waived: HUD determined that there was good cause for the waiver. The County requested an extension because staff is addressing concerns raised by HUD regarding the County's data collection methods during a recent monitoring visit. This additional time helped to ensure that the data reported in the CAPER was accurate and complete.

5. Regulation: 24 CFR 91.520(a).

Project/Activity: The County of Onondaga, New York requested a waiver of the submission deadline for the County's 1998 program year CDBG Performance Annual Evaluation Report (CAPER).

Nature of Requirement: HUD's regulation at 24 CFR 91.520(a) requires each grant recipient to submit a performance report to HUD within 90 days after the close of the grantee's program year.

Granted by: Cardell Cooper, Assistant Secretary for Community Planning and Development.

Date Granted: November 24, 1999.

Reasons Waived: HUD determined that there was good cause for the waiver. The County had experienced difficulties as a result of staff illness and the installation of new computer equipment.

6. Regulation: 24 CFR 92.500(d)(1)(C).

Project/Activity: The City of Santa Monica, California requested a waiver to extend the deadline for disbursement of HOME program disaster grant funds.

Nature of Requirement: HUD's regulation at 24 CFR 92.500(d)(1)(C) requires grantees to disburse HOME program funds within five years of the time HUD makes them available.

Granted by: Cardell Cooper, Assistant Secretary for Community Planning and Development.

Date Granted: October 25, 1999.

Reasons Waived: The project experienced delay due to inclement weather and restrictions on site access. The loss of the funds committed to a project already under construction would constitute a hardship to the City of Santa Monica. HUD determined that there was good cause for a waiver and allowed the City until February 29, 2000 to expend its remaining HOME disaster grant funds.

7. Regulation: 24 CFR 570.200(h)(1)(i).

Project/Activity: The City of Berwyn Illinois and the Village of Palatine, Illinois requested a waiver of the requirement governing reimbursement for CDBG pre-award costs.

Nature of Requirement: HUD's Community Development Block Grant (CDBG) program regulations at 24 CFR 570.200 (h)(1)(i) provide that, before the effective date of the CDBG grant agreement, a recipient may incur costs for activities included in a Consolidated Plan Action Plan, or an amended Consolidated Plan and then reimburse itself after the grant is received.

Granted by: Cardell Cooper, Assistant Secretary for Community Planning and Development.

Date Granted: December 13, 1999.

Reasons Waived: The two communities that requested this waiver are new entitlements and do not have Consolidated Plans in place. In order for these communities to incur costs to carry out these activities and reimburse themselves for such costs after their CDBG grants are awarded, a waiver of 24 CFR 570.200(h)(1)(i) was necessary. HUD may waive any requirement, not specifically required by law, upon determination of good cause, if undue hardship would result from applying the requirement. It is not HUD's intention to put the financial burden for program start-up costs on local resources by prohibiting reimbursement from CDBG program funds. This could negatively impact the implementation of the City's and Village's CDBG programs and their ability to effectively carry-out activities that will benefit low- and moderate-income residents.

8. Regulation: 24 CFR 570.200(h)(1)(i).

Project/Activity: The City of Auburn, Alabama requested a waiver of the requirement governing reimbursement for CDBG pre-award costs.

Nature of Requirement: HUD's Community Development Block Grant (CDBG) program regulations at 24 CFR 570.200 (h)(1)(i) provide that, before the effective date of the CDBG grant agreement, a recipient may incur costs for activities included in a Consolidated Plan Action Plan, or an amended Consolidated Plan and then reimburse itself after the grant is received.

Granted by: Cardell Cooper, Assistant Secretary for Community Planning and Development.

Date Granted: December 13, 1999.

Reasons Waived: The community that requested the waiver is a new entitlement, and does not have a Consolidated Plan in place. In order for this community to incur costs to carry out activities and reimburse itself for such costs after its grant is awarded, a waiver of 24 CFR 570.200(h)(1)(i) was necessary. HUD may waive any requirement, not specifically required by law, upon determination of good cause, if undue hardship would result from applying the requirement. It is not HUD's intention to put the financial burden for program start-up costs on local resources by prohibiting reimbursement from CDBG program funds. This could negatively impact the implementation of the City's CDBG program and its ability to effectively carry-out activities that will benefit low-and moderate-income residents.

9. Regulation: 24 CFR 576.21.

Project/Activity: The County of Onandaga, NY requested a waiver of the Emergency Shelter Grant (ESG) program regulations at 24 CFR 576.21.

Nature of Requirement: HUD's regulation at 24 CFR 576.21 state that recipients of ESG grant funds are subject to the limits on the use of assistance for essential services established in section 414(a)(2)(B) of the Stewart B. McKinney Homeless Assistance Act (42 U.S.C. 11374(a)(2)(B)). Essential services are commonly defined as services that provide health, employment, drug abuse, and education to homeless persons.

Granted by: Cardell Cooper, Assistant Secretary for Community Planning and Development.

Date Granted: October 20, 1999.

Reasons Waived: Under the Stewart B. McKinney Homeless Assistance Act, amended by the National Affordable Housing Act the 30 percent cap on essential services may be waived if the grantee “demonstrates that the other eligible activities under the program are already being carried out in the locality with other resources.” A letter from the County Administrator to HUD documented that other resources were being used to address homeless needs. Therefore, HUD allowed the County to expend 32.57 percent of its FY 1998 ESG funds for this expenditure category.

10. Regulation: 24 CFR 576.35(b)(2)(ii).

Project/Activity: The State of Tennessee requested a waiver of the 180-day month expenditure deadline.

Nature of Requirement: The ESG program regulation at 24 CFR 576.35(b)(2)(ii) requires State recipients using ESG funds for homeless prevention activities to expend those funds within 180 days of the date on which grant amounts were made available.

Granted by: Cardell Cooper, Assistant Secretary for Community Planning and Development.

Date Granted: November 2, 1999.

Reasons Waived: The State requested approval to use ESG homeless prevention funds during the first 365 days of the ESG grant term. The waiver was requested to help ensure that the State would not experience a shortfall of resources during the wintertime, when a large number of requests for assistance with rent and utility arrearages are received. HUD recognized the State's need to be able to provide assistance beyond the 180 days allowed in the regulation.

II. Regulatory Waivers Granted by the Office of Housing

For Item 11, Waiver Granted for 24 CFR Part 203, Contact:

Vance T. Morris, Director, Office of Single Family Program Development, U.S. Department of Housing and Urban Development, 451 Seventh Street, SW, Room 9266, Washington, DC 20410; telephone (202) 708-2700 (this is not a toll-free number). Hearing or speech-impaired persons may access this number via TTY by calling the toll-free Federal Information Relay Service at 1-800-877-8391.

11. Regulation: 24 CFR 203.49(c).

Project/Activity: Corinthian Mortgage Corporation requested a waiver of the requirements of 24 CFR 203.49(c) to extend the initial adjustment dates for adjustable rate mortgage (ARM) loans beyond the 12 to 18 month window currently provided for in the regulation.

Nature of Requirement: The regulation requires that interest rate adjustments for ARMs must occur on an annual basis, except that the first adjustment may occur no sooner than 12 months nor later than 18 months from the date of the mortgagor's first debt service payment.

Granted by: William C. Apgar, Assistant Secretary for Housing-Federal Housing Commissioner.

Date Granted: October 12, 1999.

Reason Waived: Approving the waiver enabled the lender to securitize the loan and rendered no harm to the borrowers or the Department.

For Item 12: Waiver Granted for 24 CFR Part 241, Contact: Gloria Burton, Western and Atlantic Servicing Branch, Office of Portfolio Management, U.S. Department of Housing and Urban Development, 451 7th Street SW, Room 6176, Washington, DC 20410; telephone (202) 708-3944 (this is not a toll-free number). Hearing or speech-impaired persons may access this number via TTY by calling the Federal Information Relay Service at 1-800-877-8391.

12. Regulation: 24 CFR 241.1069(a).

Project/Activity: Kansas City, Missouri (Hawthorne Complex—Project Numbers 084-55005, 084-55014, 084-55040, 084-41006, 084-55052). The Kansas City Multifamily Hub has requested a waiver of escrow requirements for the subject projects.

Nature of Requirement: HUD's regulations at 24 CFR part 241 require that 10% of each second mortgage loan be deposited with the second mortgage lender in Housing Quality Standards (HQS) escrows to be held for a period of 5 years from the date the loan was made as assurance of compliance by the project owner with applicable local housing codes and HUD's HQS.

Granted by: William C. Apgar, Assistant Secretary for Housing-Federal Housing Commissioner.

Reason Waived: The Assistant Secretary granted the waiver to allow release of $540,291 from the HQS Escrow to purchase of the Hawthorne Complex, as well as 36 management needs of the property. This will allow release of a portion requisite 5-year period and preserve the long term affordability of the Hawthorne Complex.

For Items 13 Through 85, Waivers Granted for 24 CFR Part 891, Contact: Willie Spearmon, Director, Office of Business Products, U.S. Department of Housing and Urban Development, 451 Seventh Street, SW, Room 6134, Washington, DC 20410; telephone (202) 708-3000 (this is not a toll-free number). Hearing or speech-impaired persons may access this number via TTY by calling the toll-free Federal Information Relay Service at 1-800-877-8391.

13. Regulation: 24 CFR 891.100(d).

Project/Activity: Everett Non-Profit Housing, Everett, MA, Project Number: 023-EE068/MA06-S961-004.

Nature of Requirement: HUD provides capital advances under section 202 of the Housing Act of 1959 (12 U.S.C. 1701q) and section 811 of the National Affordable Housing Act (42 U.S.C. 8013). HUD's regulation at 24 CFR 891.100(d) allows HUD to amend the amount of an approved capital advance only after an initial closing has occurred.

Granted by: William C. Apgar, Assistant Secretary for Housing-Federal Housing Commissioner.

Date Granted: September 30, 1999.

Reason Waived: The project is modest in design, and comparable in cost to similar projects. Further, the sponsor has not been able to secure all funds needed to cover the increased costs from outside sources.

14. Regulation: 24 CFR 891.100(d).

Project/Activity: Jackson Supportive Housing Development, Jackson, Mississippi, Project Number: 065-HDO19/MS26-Q971-002.

Nature of Requirement: HUD provides capital advances under section 202 of the Housing Act of 1959 (12 U.S.C. 1701q) and section 811 of the National Affordable Housing Act (42 U.S.C. 8013). HUD's regulation at 24 CFR 891.100(d) allows HUD to amend the amount of an approved capital advance only after an initial closing has occurred.

Granted by: William C. Apgar, Assistant Secretary for Housing-Federal Housing Commissioner.

Date Granted: September 30, 1999.

Reason Waived: The project is modest in design, comparable in costs to other similar projects, and the Sponsors were not able to raise any additional funds nor do they have the capacity to provide the funds.

15. Regulation: 24 CFR 891.100(d) and 891.165.

Project/Activity: Mt. Zion Baptist Church, St. Louis, Missouri, Project Number: 085-EE038/MO36-S971-005.

Nature of Requirement: HUD provides capital advances under section 202 of the Housing Act of 1959 (12 U.S.C. 1701q) and section 811 of the National Affordable Housing Act (42 U.S.C. 8013). HUD's regulation at 24 CFR 891.100(d) allows HUD to amend the amount of an approved capital advance only after an initial closing has occurred. HUD's regulation at 24 CFR 891.165 provides that the duration of the fund reservation for the capital advance is 18 months from the date of issuance, with limited exceptions up to 24 months.

Granted by: William C. Apgar, Assistant Secretary for Housing-Federal Housing Commissioner.

Date Granted: September 30, 1999.

Reason Waived: The sponsor/owner has taken all reasonable measures to reduce project cost by competitively bidding the project and has no other funds available to cover the shortfall in project development costs. The project was delayed due to a HUD error which required the construction contract to be competitively bid.

16. Regulation: 24 CFR 891.100(d).

Project/Activity: Reisterstown Village Senior Housing, Reisterstown, Maryland, Project Number: 052-EE025/MD06-S981-002.

Nature of Requirement: HUD provides capital advances under section 202 of the Housing Act of 1959 (12 U.S.C. 1701q) and section 811 of the National Affordable Housing Act (42 U.S.C. 8013). HUD's regulation at 24 CFR 891.100(d) allows HUD to amend the amount of an approved capital advance only after an initial closing has occurred.

Granted by: William C. Apgar, Assistant Secretary for Housing-Federal Housing Commissioner.

Date Granted: October 13, 1999.

Reason Waived: Additional funds were needed to cover increased costs caused by the local government requiring a sprinkler system.

17. Regulation: 24 CFR 891.100(d) and 891.165.

Project/Activity: East 21st Midwood Residence, Brooklyn, New York, Project Number: 012-HD052-WDD/NY36-Q961-005.

Nature of Requirement: HUD provides capital advances under section 202 of the Housing Act of 1959 (12 U.S.C. 1701q) and section 811 of the National Affordable Housing Act (42 U.S.C. 8013). HUD's regulation at 24 CFR 891.100(d) allows HUD to amend the amount of an approved capital advance only after an initial closing has occurred. HUD's regulation at 24 CFR 891.165 provides that the duration of the fund reservation for the capital advance is 18 months from the date of issuance, with limited exceptions up to 24 months.

Granted by: William C. Apgar, Assistant Secretary for Housing-Federal Housing Commissioner.

Date Granted: October 13, 1999.

Reason Waived: Additional funds were needed because the sponsor had exhausted all reasonable measures to reduce project shortfalls and had no other funds to cover the shortfall. The sponsor required additional time because an alternate site had to be selected by the sponsor after it lost site control of its original site.

18. Regulation: 24 CFR 891.100(d).

Project/Activity: QLS Meadows, Atlanta, Georgia, Project Number: 061-EE053/GA06S961007.

Nature of Requirement: HUD provides capital advances under section 202 of the Housing Act of 1959 (12 U.S.C. 1701q) and section 811 of the National Affordable Housing Act (42 U.S.C. 8013). HUD's regulation at 24 CFR 891.100(d) allows HUD to amend the amount of an approved capital advance only after an initial closing has occurred.

Granted by: William C. Apgar, Assistant Secretary for Housing-Federal Housing Commissioner.

Date Granted: October 26, 1999.

Reason Waived: The Sponsor/Owner had to acquire another site, which resulted in additional land and construction costs.

19. Regulation: 24 CFR 891.100(d) and 891.165.

Project/Activity: Tongore Pines, Oliverbridge, New York, Project Number: 012-EE193/NY36-S961-011.

Nature of Requirement: HUD provides capital advances under section 202 of the Housing Act of 1959 (12 U.S.C. 1701q) and section 811 of the National Affordable Housing Act (42 U.S.C. 8013). HUD's regulation at 24 CFR 891.100(d) allows HUD to amend the amount of an approved capital advance only after an initial closing has occurred. HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: The project is modest in design, comparable in costs to other similar projects, and the owner could not raise any additional funds for this project. Additional time was needed for the owner to obtain the additional time needed for the project.

20. Regulation: 24 CFR 891.100(d).

Project/Activity: Presbyterian Village of Michigan (Brush Park), Detroit, Michigan, Project Number: 044-EE053/MI28-S971-008.

Nature of Requirement: HUD provides capital advances under section 202 of the Housing Act of 1959 (12 U.S.C. 1701q) and section 811 of the National Affordable Housing Act (42 U.S.C. 8013). HUD's regulation at 24 CFR 891.100(d) allows HUD to amend the amount of an approved capital advance only after an initial closing has occurred.

Granted by: William C. Apgar, Assistant Secretary for Housing-Federal Housing Commissioner

Date Granted: December 14, 1999.

Reason Waived: Construction costs have escalated and created shortages of materials and skilled labor in Southeast Michigan due to a construction boom. The owners have exhausted all attempts to raise the additional capital to eliminate the shortfall.

21. Regulation: 24 CFR 891.100(d).

Project/Activity: Monsignor Henry J. Reel Village II, Suffolk, New York, Project Number: 012-EE220/NY36-S971-007.

Nature of Requirement: HUD provides capital advances under section 202 of the Housing Act of 1959 (12 U.S.C. 1701q) and section 811 of the National Affordable Housing Act (42 U.S.C. 8013). HUD's regulation at 24 CFR 891.100(d) allows HUD to amend the amount of an approved capital advance only after an initial closing has occurred.

Granted by: William C. Apgar, Assistant Secretary for Housing-Federal Housing Commissioner.

Date Granted: December 16, 1999.

Reason Waived: The capital advance issued at the fund reservation stage did not reflect development costs within the New York metropolitan area. The Sponsor was unable to funds the necessary increase.

22. Regulation: 24 CFR 891.165.

Project/Activity: Ralston Mercy Douglass House, Philadelphia, Pa., Project Number: 034-EE061/PA26-S961-005.

Nature of Requirement: HUD provides capital advances under section 202 of the Housing Act of 1959 (12 U.S.C. 1701q) and section 811 of the National Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: September 22, 1999.

Reason Waived: Additional time was needed to review closing documents.

23. Regulation: 24 CFR 891.165.

Project/Activity: ARC Housing, Milwaukee, Wisconsin, Project Number: 075-HDO49-WDD/WI39-Q961004.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: September 22, 1999.

Reason Waived: Additional time was needed to resolve architectural problems.

24. Regulation: 24 CFR 891.165.

Project/Activity: VOA Riverside 10, Fort Worth, Texas, Project Number: 113-HDO15-WPD/TX21-Q971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: September 22, 1999.

Reason Waived: The project was delayed because the owner had to find a new site due to neighborhood opposition.

25. Regulation: 24 CFR 891.165.

Project/Activity: Royale Gardens Residences, Chicago, Illinois, Project Number: 071-EE125/IL06-S961-016.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: September 23, 1999.

Reason Waived: Additional time was needed for the Sponsor to secure secondary financing from the City of Chicago's Department of Housing to cover additional construction costs.

26. Regulation: 24 CFR 891.165.

Project/Activity: Citrus Gardens, Orlando, Orange County, Florida, Project Number: 067-EE082/FL29-S971-008; Goodwill Industries, St. Petersburg, Florida, Project Number: 067-HDO54/FL29-Q971-008; Bethel Towers, Tallahassee, Florida, Project Number: 067-EE016/FL29-S971-002; Cape Coral Home, Cape Coral, Florida, Project Number: 066-HDO38/FL29-Q971-005; Matthew's Corner, Tampa, Project Number: 067-HDO53/FL29-Q071-007.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: September 28, 1999.

Reason Waived: Citrus Gardens: Closing of the project has been delayed due to deficiencies in the firm commitment application and the owner's efforts to resolve issues with the City of Orlando. Goodwill Industries: The project was delayed because the owner was forced to seek an alternate site. Bethel Towers: Additional time was needed for the owner to resolve deficiencies in the Firm Commitment application and to identify alternate funding sources to meet a cash shortage. Cape Coral Home: Delays in closing the project are due to the General Contractor revising his cost. Matthew's Corner: Closing of this project has been delayed due to deficiencies in the Firm Commitment application and in the State's review and approval of the Owner Corporation.

27. Regulation: 24 CFR 891.165.

Project/Activity: Woodgrove Apartments, Maryville, Tennessee, Project Number: 087-HDO33/TN37-Q961-004.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: September 30, 1999.

Reason Waived: Additional time was needed for HUD to process the firm application and the Owner's Attorney to prepare the initial closing documents.

28. Regulation: 24 CFR 891.165.

Project/Activity: Riverview St. Mary's, Knoxville, Tennessee, Project Number: 087-EE030-NP-WAH/TN37-S971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: October 12, 1999.

Reason Waived: The Owner experienced a delay in obtaining their 501(c) tax exempt status from the IRS.

29. Regulation: 24 CFR 891.165.

Project/Activity: Summerdale Court, Clairton, Allegheny County, Pennsylvania, Project Number: 033-HDO39/PA28-Q971001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: October 13, 1999.

Reason Waived: The project experienced delays when the original site met neighborhood opposition and the sponsor chose to find a new site rather than contest the arguments of the neighbors.

30. Regulation: 24 CFR 891.165.

Project/Activity: Friendship Manor, Kingsport, Tennessee, Project Number: 087-EE031.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: October 18, 1999.

Reason Waived: HUD needed additional time to review the draft closing documents.

31. Regulation: 24 CFR 891.165.

Project/Activity: Council for the Spanish Speaking, Inc., Milwaukee, Wisconsin, Project Number: 075-EE063-WAH/WI39-S971-007

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: October 26, 1999.

Reason Waived: Project has been delayed due to a significant amount of neighborhood opposition.

32. Regulation: 24 CFR 891.165.

Project/Activity: Lakeland Manor, Santa Fe Springs, California, Project Number: 122-HD089-WPD-NP/CA16-Q961-005.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 3, 1999.

Reason Waived: The project's delay was caused by a change of site from one city to another, problems with the coordination of civil, structural and mechanical engineering, and the addition of previously unknown electrical substation requirements.

33. Regulation: 24 CFR 891.165.

Project/Activity: Abraham Lincoln Centre, Chicago, Illinois, Project Number: 071-HDO95/IL06-Q061-010.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 3, 1999.

Reason Waived: Approval of the sites has taken more time than expected. The City has required the Sponsor to obtain the approval of each alderman and the aldermen have required the approval of each of the communities involved.

34. Regulation: 24 CFR 891.165.

Project/Activity: Nome Community Center, Nome, Alaska, Project Number: 176-EE012/AK06-S971-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 3, 1999.

Reason Waived: Development of this project has been delayed by factors beyond the control of HUD and the owners.

35. Regulation: 24 CFR 891.165.

Project/Activity: Victoria Jennings Residences, Chicago, Illinois, Project Number: 071-HDO88/IL06-Q961-003.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 3, 1999.

Reason Waived: Additional time is needed for the firm commitment to be reprocessed and for the project to be initially closed.

36. Regulation: 24 CFR 891.165.

Project/Activity: ASI Dakota County, Burnsville, Minnesota, Project Number: 092-HDO44/MN46-Q971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 3, 1999.

Reason Waived: This project experienced delays when the site had to be subdivided due to improvements on the adjacent property.

37. Regulation: 24 CFR 891.165.

Project/Activity: Mercy Gardens, San Diego, California, Project Number: 129-HDO11-WPD-NP/CA33-Q961-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 3, 1999.

Reason Waived: Delays that this project has experienced in achieving a construction start have been for reasons that were beyond the Sponsor's control.

38. Regulation: 24 CFR 891.165.

Project/Activity: Mariposa Manor, Los Angeles, California, Project Number: 122-EE118/CA16-S971-003.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 3, 1999.

Reason Waived: The project has been delayed due to the complications rising from the Section 106 historic Preservation Review process.

39. Regulation: 24 CFR 891.165.

Project/Activity: Webster Supportive Housing, Webster, Texas, Project Number: 114-HDO12/TX24-Q961-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 3, 1999.

Reason Waived: The Sponsor was denied a special use permit from the city of Webster on their original site which necessitated a search for an alternate.

40. Regulation: 24 CFR 891.165.

Project/Activity: Woodgrove Apartments, Maryville, Tennessee, Project Number: 087-HDO33.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 3, 1999.

Reason Waived: HUD required additional time to review the closing documents.

41. Regulation: 24 CFR 891.165.

Project/Activity: Ralston Mercy-Douglass House, Philadelphia, PA, Project Number: 034-EE061/PA26-S961-005.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Commissioner.

Date Granted: November 9, 1999.

Reason Waived: HUD required additional time to review the initial closing documents.

42. Regulation: 24 CFR 891.165.

Project/Activity: Jackson Supportive Housing Development, Jackson, Mississippi, Project Number: 065-HDO19.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 9, 1999.

Reason Waived: The firm commitment application was delayed because construction bids obtained by the co-sponsor/owner exceeded the fund reservation and the owner needed to seek ways to lower costs and find other funds.

43. Regulation: 24 CFR 891.165.

Project/Activity: ARC Housing, Inc., Milwaukee, Wisconsin, Project Number: 075-HDO49/WI39-Q961-004.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: The project was delayed due to architectural problems.

44. Regulation: 24 CFR 891.165.

Project Activity: Ray Rawson Villa, Las Vegas, Nevada, Project Number: 125-HDO64-NP-WPD/NV25-Q971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: Delays occurred as the owner tried to obtain acceptable contractor bids and to secure additional secondary financing to cover cost overruns.

45. Regulation: 24 CFR 891.165.

Project/Activity: Sumac Trail Apartments, Inc., Rhinelander, Wisconsin, Project Number: 075-HDO50-CMI/WI39-Q971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: Delays occurred while the owner tried to reduce the project costs.

46. Regulation: 24 CFR 891.165.

Project Activity: Good Samaritan Housing, Fennimore, Wisconsin, Project Number: 075-EE058/WI39-S971-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: Additional time was required for the owner to seek ways to reduce an up-front cash requirement.

47. Regulation: 24 CFR 891.165.

Project/Activity: ARC Housing in Milwaukee, Inc., Wauwatosa, Wisconsin, Project Number: 075-HDO53-WDD/WI39-Q971-004.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: Owner had to locate a new site for the project.

48. Regulation: 24 CFR 891.165.

Project/Activity: 1116 Brookview (aka St. Paul's) Toledo, Ohio, Project Number: 042-EE087-WAH/OH12-S971-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: There was a need for more time to gain approval of a community unit plan and for HUD to review the closing documents.

49. Regulation: 24 CFR 891.165.

Project/Activity: Wesley Acres II, Decatur, Alabama, Project Number: 062-EE037/AL09-S971-003.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: The previous contractor had to be terminated by the Owner. The new general contractor required time to revise the plans and specifications in order to reduce construction costs.

50. Regulation: 24 CFR 891.165.

Project/Activity: Estates II, Hattiesburg, Mississippi, Project Number: 065-EE022-CA/MS26-S971-003.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: The project experienced unusual delays due to the local government's review process.

51. Regulation: 24 CFR 891.165.

Project/Activity: Chenango Street Apartments, Buffalo, New York, Project Number: 014-EE163/NY06-S971-019.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: Development of the project was delayed due to environmental concerns with the site.

52. Regulation: 24 CFR 891.165.

Project/Activity: Bancroft Senior Housing, Oakland, California, Project Number: 121-EE106-NP-WAH/CA39-S971-005.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: The project was unable to proceed to initial closing due to a HUD delay.

53. Regulation: 24 CFR 891.165.

Project/Activity: John King Senior Community, San Francisco, California, Project Number: 121 EE099-NP-WAH/CA39-S961-012.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 16, 1999.

Reason Waived: Delays resulted from increases in construction costs which required the owner to seek a substantial amount of additional secondary financing from the City and County, the complexity of the design, and a relocation problem that was only resolved recently by court action.

54. Regulation: 24 CFR 891.165.

Project/Activity: Clinton House, Detroit, Michigan, Project Number: 044-HDO20/MI28-Q961-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 24, 1999.

Reason Waived: The project encountered delays as it sought additional amendment funds because of a required project redesign and local government requirements.

55. Regulation: 24 CFR 891.165.

Project/Activity: Timber Ridge Group Home Northridge, California, Project Number: 122-HD103/CA16-Q971-009; Ranch House Group Home, Sylmar, California, Project Number: 122-HD104/CA16-Q971-010.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: November 24, 1999.

Reason Waived: The delays that this project experienced in achieving a construction start have been for reasons beyond the owner's control. Further delay was encountered because all proposed designs far exceeded the available budget and consequently the scope of the project was reevaluated.

56. Regulation: 24 CFR 891.165.

Project/Activity: Oroysom Senior Housing, Fremont, California, Project Number: 121-EE103-NP-WAH/CA39-S971-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 1, 1999.

Reason Waived: The HUD field office was not able to proceed to initial closing due to HUD delay.

57. Regulation: 24 CFR 891.165.

Project/Activity: Bishop Curtis Homes, East Bridgeport, Connecticut, Project Number: 017-EE033/CT26-S971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 6, 1999.

Reason Waived: Delays have occurred as the owner aggressively sought ways to reduce project costs and to obtain additional funding from the City of Bridgeport.

58. Regulation: 24 CFR 891.165.

Project/Activity: Volunteers of America, Inc., Bath/Thomaston, Maine, Project Number: 024-EE038/MA36-S971-003.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 6, 1999.

Reason Waived: The sponsor had to locate a new site due to the City not approving zoning on the original site. Additional time was required for HUD to review the new site.

59. Regulation: 24 CFR 891.165.

Project/Activity: Baden Supportive Housing, Baden, Pennsylvania, Project Number: 033-EE091/PA28-S971-007.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 6, 1999.

Reason Waived: A few days before closing, the General Contractor notified the owner that he could no longer build the project and the project owner had to select a new contractor.

60. Regulation: 24 CFR 891.165.

Project/Activity: Lake Street Apartments, St. Albans, Vermont, Project Number: 024-HDO25/VT36-Q971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 6, 1999.

Reason Waived: Additional time was needed for the City to complete rehabilitation of the building that will house the project.

61. Regulation: 24 CFR 891.165.

Project/Activity: Hamilton Manor, Hamilton, Alabama, Project Number: 062-HDO37/AL09-Q971-003.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 6, 1999.

Reason Waived: The delay in initial closing is directly attributable to HUD which may necessitate reprocessing of the firm commitment application.

62. Regulation: 24 CFR 891.165.

Project/Activity: Berry Manor, Berry Alabama, Project Number: 062-HDO36/AL09-Q971-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 6, 1999.

Reason Waived: The delay in initial closing is directly attributable to HUD which may necessitate reprocessing of the firm commitment application.

63. Regulation: 24 CFR 891.165.

Project/Activity: Glen Burnie Senior Housing, Baltimore, Maryland, Project Number: 052-EE022/MD06-S971-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 6, 1999.

Reason Waived: The extension of time was necessary for the project to achieve an initial closing.

64. Regulation: 24 CFR 891.165.

Project/Activity: Monsignor Henry J. Reel Village II, Suffolk, New York, Project Number: 012-EE220/NY36-S971-007.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 16, 1999.

Reason Waived: Additional time was needed to process the Firm Commitment Application, which was delayed due to submission of three unacceptable appraisals.

65. Regulation: 24 CFR 891.165.

Project/Activity: Stoney Pine Apartments, Sunnyvale, California, Project Number: 121-HD063/CA39-Q971-008.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: Additional time was required to complete the firm commitment process.

66. Regulation: 24 CFR 891.165.

Project/Activity: Crockett Senior Housing, Crockett, California, Project Number: 121-EE104/CA39-S971-003.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The project was unable to proceed to closing due to a moratorium placed on closings during the month of October.

67. Regulation: 24 CFR 891.165.

Project/Activity: Lenore Street Senior Housing, Willits, California, Project Number: 121-EE017/CA39-S971-006.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The project was unable to proceed to closing due to a moratorium placed on closings during the month of October.

68. Regulation: 24 CFR 891.165.

Project/Activity: St. Anthony Homes, Hunt Valley, Maryland, Project Number: 052-HD035/MD06-Q971-003.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: Additional time was needed to reach initial closing.

69. Regulation: 24 CFR 891.165.

Project/Activity: Jefferson Cottage, Inc., Martinsburg, West Virginia, Project Number: 045-HD021/WV15-Q961-003.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The Sponsor/Owner had to resolve issues with the Jefferson County Planning Commission and also encountered significant delay in regard to subdivision approval.

70. Regulation: 24 CFR 891.165.

Project/Activity: Charles Street Village, Cotati, California, Project Number: 121-EE105/CA39-S971-004.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The project was unable to proceed to initial closing due to the moratorium placed on closings during the month of October.

71. Regulation: 24 CFR 891.165.

Project/Activity: Highview Unity Apartments, Inc., Charleston, West Virginia, Project Number: 045-EE010/WV15-S971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The firm commitment application was delayed due to cost concerns and a request for additional funding to cover the financial shortfall.

72. Regulation: 24 CFR 891.165.

Project/Activity: Jackson Place, Red Bluff, California Project Number: 136-HD009/CA30-Q961-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The sponsor encountered cost problems and had to seek gap funds through Community Development Block Grant funds available through the State of California.

73. Regulation: 24 CFR 891.165.

Project/Activity: ASI Dakota County, Burnsville, Minnesota, Project Number: 092-HD044/MN46-Q971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The preparation of the closing documents was delayed due to improvements on the adjacent property which encroached on the subject site and necessitated a subdivision of the site.

74. Regulation: 24 CFR 891.165.

Project/Activity: Nashville Supportive Housing, Nashville, Tennessee, Project Number: 086-HD016/TN-43-Q971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The sponsor was required to find an alternative site and had problems scheduling the rezoning hearing before the Planning Commission.

75. Regulation: 24 CFR 891.165.

Project/Activity: LaCasa Village II, Wauesha, WI Project Number: 075-EE065/WI39-S971-009.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The firm commitment processing was delayed due to the fact that the Sponsor had to negotiate with a new contractor.

76. Regulation: 24 CFR 891.165.

Project/Activity: Arc HUD III, Project Number: 032-HD017/DE26-Q961-003; St. Peter's Place, Project Number: 034-EE070/PA26-S971-002; Freedom House, Project Number: 034-HD049/PA26-Q971-001; Randolphy/Mercy-Douglass Home for the Blind, Project Number: 034-HD052/PA26-Q9771-004.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: HUD required additional time to review ARC HUD III's closing documents and to complete the firm commitment processing for the other three projects.

77. Regulation: 24 CFR 891.165.

Project/Activity: Venice Senior Housing, Venice, California, Project Number: 122-EE127/CA16-S971-012.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The project experienced delays due to neighborhood and community groups filing legal appeals and a pending request for additional funding from LAHD.

78. Regulation: 24 CFR 891.165.

Project/Activity: West Hamlin Unity Place, West Hamlin, West Virginia, Project Number: 045-HD026/WV15-Q971-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The firm commitment application was delayed due to cost concerns and a request for additional funding to cover a financial shortfall.

79. Regulation: 24 CFR 891.165.

Project/Activity: Barbara Chappelle Manor, Grenada, Mississippi, Project Number: 065-EE018/MS26-S961-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: Additional time was needed to allow the Sponsor to resolve deficiencies in the initial closing package.

80. Regulation: 24 CFR 891.165.

Project/Activity: Connections (West Commons), Wilmington, Delaware, Project Number: 032-HD018/DE26-Q961-004.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: Additional time was needed to process the firm commitment application and to finalize gap financing since a new site had to be found for the project.

81. Regulation: 24 CFR 891.165.

Project/Activity: New Canaan Group Home, New Canaan, Connecticut, Project Number: 017-HD021/CT26-Q971-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: Additional time needed to close the project.

82. Regulation: 24 CFR 891.165.

Project/Activity: Southbury Senior Housing, Project Number: 017-EE040/CT26-S971-008.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The Sponsor required additional time to resolve funding issues regarding unique rural site costs.

83. Regulation: 24 CFR 891.165.

Project/Activity: Interfaith Housing, Westport, CT, Project Number: 017-HD015/CT26-Q961-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: Delays occurred due to the Sponsor experiencing extreme difficulty in securing adequate properties for rehabilitation. Further, the Sponsor required additional time to conduct fund raising activities to resolve a financial shortfall.

84. Regulation: 24 CFR 891.165.

Project/Activity: Knights of Peter Claver Apartments, Tunica, Mississippi, Project Number: 065-EE020/MS26-S971-001.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The Owner had to find another general contractor and resolve cost problems when the construction bid prices exceeded the fund reservation amount.

85. Regulation: 24 CFR 891.165.

Project/Activity: Warren Hempel Apartments, Alton, Illinois, Project Number: 072-HD102/IL06-Q971-002.

Nature of Requirement: HUD provides capital advances under section 202 of the Housing Act of 1959 (12 U.S.C. 1701q) and section 811 of the national Affordable Housing Act (42 U.S.C. 8013). HUD's regulation at 24 CFR 891.165 provides that the duration of the fund reservation for the capital advance is 18 months from the date of issuance, with limited exceptions up to 24 months.

Granted by: William C. Apgar, Assistant Secretary for Housing-Federal Housing Commissioner.

Date Granted: December 22, 1999.

Reason Waived: The Sponsor required additional time to resolve building permit issues with the City.

For Items 86 Through 92, Waivers Granted for 24 CFR Part 891, Contact: Jerold Nachison, Eastern and Atlantic Servicing Branch, Office of Portfolio Management, Office of Housing, U.S. Department of Housing and Urban Development, 451 Seventh Street, SW, Room 6168, Washington, DC 20410; telephone (202) 708-3730 (this is not a toll-free number). Hearing or speech-impaired persons may access this number via TTY by calling the toll-free Federal Information Relay Service at 1-800-877-8391.

86. Regulation: 24 CFR 891.305 and 891.410(c).

Project/Activity: Omaha, Nebraska (Richland Apartments—Project Number 103-HD105). The Kansas City Multifamily Hub has requested a waiver to allow an ineligible family admitted erroneously to this Section 811 project to remain temporarily to avoid a potential hardship if the family were immediately displaced.

Nature of Requirement: The HUD regulations at 24 CFR part 891 define a disabled household as “one or more persons at least one of whom is an adult (18 years or older) who has a disability.” The regulations also require that an owner is to determine eligibility in selecting tenants.

Granted by: William C. Apgar, Assistant Secretary for Housing-Federal Housing Commissioner.

Date Granted: October 12, 1999.

Reason Waived: The Assistant Secretary granted this waiver based on the special circumstances of this case in which management did not focus on the eligibility limitations of the section 811 program. This waiver allowed the family to stay for the remaining term of their lease or one year, whichever was less. Further, the project was required to bear the costs of the family's relocation. The waiver applied solely to the subject household.

87. Regulation: 24 CFR 891.305 and 891.410(c).

Project/Activity: Greensboro, North Carolina (Morehead-Simkin Independent Living Center—Project Number 053-EE067). The Greensboro Multifamily Hub requested an age and disability waiver for the subject project to allow five households who were erroneously admitted to temporarily remain in the project.

Nature of Requirement: The HUD regulations at 24 CFR part 891 require occupancy to be limited to Very Low Income (VLI) elderly persons (i.e., households composed of one or more persons at least one of whom is 62 years of age at time of initial occupancy). The regulations also require that an owner is to determine eligibility in selecting tenants.

Granted by: William C. Apgar, Assistant Secretary for Housing-Federal Housing Commissioner.

Date Granted: October 12, 1999.

Reason Waived: The Assistant Secretary granted a one year waiver of the regulation to allow project management to assist five households (in which no resident is near the age of 60), to relocate to another apartment and pay for moving expenses, etc. One ineligible resident is over the age of 60 and will be 61 at the end of the one year waiver period. In this case the waiver will be extended to her 62nd birthday, so that she may remain in the project. These measures are being taken to restore the project to a 202/PRAC for the elderly over time.

88. Regulation: 24 CFR 891.575 and 891.610(c).

Project/Activity: Salt Lake City, Utah (Calvary Tower—Project Number 105-EH048). The Denver Multifamily Hub has requested an age waiver for the project to assist with renting units.

Nature of Requirement: The HUD regulations at 24 CFR part 891 require that occupancy be limited to Very Low Income (VLI) elderly persons (i.e., households composed of one or more persons at least one of whom is 62 years of age at time of initial occupancy).

Granted by: William C. Apgar, Assistant Secretary for Housing-Federal Housing Commissioner.

Date Granted: October 12, 1999.

Reason Waived: The Assistant Secretary for Housing granted the waiver to raise the income ceiling for the project, which would assist in renting vacant units in the project.

89. Regulation: 24 CFR 891.575 and 891.610(c).

Project/Activity: McKee, Kentucky (McKee Manor Apartments—Project Number 083-EH043). The Atlanta Multifamily Hub has requested an age waiver for the project because of occupancy difficulties.

Nature of Requirement: HUD regulations at 24 CFR part 891 require that occupancy be limited to Very Low Income (VLI) elderly persons (i.e., households composed of one or more persons at least one of whom is 62 years of age at time of initial occupancy).

Granted by: William C. Apgar, Assistant Secretary for Housing-Federal Housing Commissioner.

Date Granted: November 3, 1999.

Reason Waived: The Assistant Secretary for Housing granted an age waiver for this project in order to allow flexibility in attempting to rent up the vacant units which exists because of a “soft” housing market in the area.

90. Regulation: 24 CFR 891.575 and 891.610(c).

Project/Activity: Burkesville, Kentucky (Burkesville Manor—Project Number 083-EH153). The Atlanta Multifamily Hub has requested an age waiver for the project to assist in renting up vacant project units.

Nature of Requirement: HUD regulations at 24 CFR part 891 require that occupancy be limited to Very Low Income (VLI) elderly persons (i.e., households composed of one or more persons at least one of whom is 62 years of age at time of initial occupancy).

Granted by: William C. Apgar, Assistant Secretary for Housing-Federal Housing Commissioner.

Date Granted: November 16, 1999.

Reason Waived: The Assistant Secretary granted the waiver for this project due to the local “soft” market in the area to assist in project occupancy and allow project management more flexibility in renting vacant units.

91. Regulation: 24 CFR 891.575 and 891.610(c).

Project/Activity: Racine, Wisconsin (Marian Housing Center—Project Number: 075-EH247). The Milwaukee Multifamily Program Center requested an age waiver for the subject project due to occupancy difficulties.

Nature of Requirement: HUD regulations at 24 CFR part 891 require that occupancy be limited to Very Low Income (VLI) elderly persons (i.e., households composed of one or more persons at least one of whom is 62 years of age at time of initial occupancy).

Granted by: William C. Apgar, Assistant Secretary for Housing-Federal Housing Commissioner.

Date Granted: December 22, 1999.

Reason Waived: The Assistant Secretary for Housing granted this waiver based on the area's “soft” housing market resulting in difficulty in renting remaining units. The waiver would allow project management additional flexibility in attempting to rent up vacant units.

92. Regulation: 24 CFR 891.575 and 891.610(c).

Project/Activity: North Lewisburg, Ohio (Cherry Arbors—Project Number 043-EE012). The Columbus Multifamily Hub has requested an income waiver to assist with severe vacancy problems for this 202/PRAC project.

Nature of Requirement: HUD regulations at 24 CFR part 891 require that occupancy be limited to Very Low Income (VLI) elderly persons (i.e., households composed of one or more persons at least one of whom is 62 years of age at time of initial occupancy).

Granted by: William C. Apgar, Assistant Secretary for Housing-Federal Housing Commissioner.

Date Granted: December 22, 1999.

Reason Waived: The Assistant Secretary granted this waiver in order to allow low income elderly in addition to very low income since the project has been suffering severe vacancy problems which could lead to future foreclosure. This would assist the project in fully renting up its vacant units.

III. Regulatory Waivers Granted by the Office of Public and Indian Housing

For Items 93 and 94, Waivers Granted for 24 CFR Part 982, Contact: Gerald Benoit, Office of Public and Indian Housing, U.S. Department of Housing and Urban Development, 451 Seventh Street, SW, Room 4210, Washington, DC 20410; telephone (202) 708-0477 (this is not a toll-free number). Hearing or speech-impaired persons may access this number via TTY by calling the toll-free Federal Information Relay Service at 1-800-877-8391.

93. Regulation: 24 CFR 982.303(a) and 982.503(c)(4)(ii).

Project/Activity: San Francisco Housing Authority, California; Section 8 Housing Choice Voucher Program.

Nature of Requirement: HUD's regulation at 24 CFR 982.303(a) provides for an initial voucher term of 60 days. HUD's regulation at 24 CFR 982.503(c)(4)(ii) provides that HUD will only approve an exception payment standard above 120 percent of the fair market rent (FMR) after six months from the date of HUD approval of an exception payment standard implementing 120 percent payment standards.

Granted by: Harold Lucas, Assistant Secretary for Pubic and Indian Housing.

Date Granted: December 27, 1999.

Reason Waived: Approval of the waiver was necessary to allow an initial term of six months and thereby provide a longer initial search time for families to find housing under the program in the extremely tight San Francisco rental market. The waiver also immediately increased the payment standards above 120 percent to ensure that families were not required to pay more than 40 percent of their income for rent.

94. Regulation: 24 CFR 982.312.

Project/Activity: Cumberland County Housing Authority, Pennsylvania; Section 8 Housing Choice Voucher Program.

Nature of Requirement: The regulation provides that a family may not be absent from the unit for a period of more than 180 consecutive calendar days.

Granted by: Harold Lucas, Assistant Secretary for Pubic and Indian Housing.

Date Granted: December 17, 1999.

Reason Waived: Approval of the waiver prevented further stress and hardship on a program participant that was hospitalized for an extended period of time due to complications resulting from heart transplant surgery.

For Item 95, Waiver Granted for 24 CFR Part 990, Contact: Stephen Sprague, Funding and Financial Management Division, Office of Public and Indian Housing, U.S. Department of Housing and Urban Development, 451 Seventh Street, SW, Room 4216, Washington, DC 20410; telephone (202) 708-1872 (this is not a toll-free number). Hearing or speech-impaired persons may access this number via TTY by calling the toll-free Federal Information Relay Service at 1-800-877-8391.

95. Regulation: 24 CFR 990.107(f) and 990.109.

Project/Activity: Housing Authority of San Joaquin, CA.

Nature of Requirement: HUD's regulations at 24 CFR part 990 establish the policies and procedures governing the Performance Funding System (PFS). The PFS regulations at §§ 990.107(f) and 990.109 provide that the energy conservation incentive that relates to energy performance contracting applies to only PHA-paid utilities. The Housing Authority of San Joaquin has both PHA-paid and tenant-paid utilities.

Granted by: Harold Lucas, Assistant Secretary for Public and Indian Housing.

Date Granted: October 12, 1999.

Reason Waived: A request was made to permit the Authority to benefit from energy performance contracting for developments which have tenant-paid utilities. The PHA estimates that it could increase savings substantially if it were able to undertake energy performance contracting for both PHA-paid and tenant-paid utilities. In September 1996, the Oakland Housing Authority was granted a waiver to permit the Authority to benefit from energy performance contracting for developments with tenant-paid utilities. The waiver was granted on the basis that the Authority presented a sound and reasonable methodology for doing so. The Housing Authority of San Joaquin requested a waiver based on the same approved methodology. The waiver permits the PHA to exclude from its PFS calculation of rental income, increased rental income due to the difference between updated baseline utility (before implementation of the energy conservation measures) and revised allowances (after implementation of the measures) for the project(s) involved for the duration of the contract period, which cannot exceed 12 years.

[FR Doc. 00-6640 Filed 3-16-00; 8:45 am]

BILLING CODE 4210-32-P